DEPARTMENT OF COMMERCE

International Trade Administration

(A-475-703, A-588-707)

Granular Polytetrafluoroethylene Resin from Italy and Japan; Five-year (“Sunset”) Reviews of Antidumping Duty Orders; Final Results

AGENCY: Import Administration, International Trade Administration, Department of Commerce.

SUMMARY: On December 1, 2004, the Department of Commerce (“the Department”) initiated a sunset review of the antidumping duty orders on Granular Polytetrafluoroethylene Resin (“PTFE Resin”) from Italy and Japan, pursuant to section 751(c) of the Tariff Act of 1930, as amended, (“the Act”). On the basis of the notice of intent to participate and adequate substantive responses filed on behalf of the domestic interested parties and inadequate responses from respondent interested parties, the Department conducted expedited sunset reviews. As a result of these sunset reviews, the Department finds that revocation of the antidumping duty orders would likely lead to continuation or recurrence of dumping at the levels listed below in the section entitled “Final Results of Reviews.”

EFFECTIVE DATE: July 6, 2005.

FOR FURTHER INFORMATION CONTACT: Martha V. Douthit or Dana Mermelstein, Office 6, Antidumping/Countervailing Duty Operations, Import Administration, International Trade Administration, U.S. Department of Commerce, 14th Street and Constitution Avenue, NW, Washington, DC, 20230; telephone: (202) 482-5050 or (202) 482-1391.

SUPPLEMENTARY INFORMATION:

Background

On December 1, 2004, the Department initiated sunset reviews of the antidumping duty orders on PTFE Resin from Italy and Japan pursuant to section 751(c) of the Act. See Initiation of Five-year (“Sunset”) Reviews, 69 FR 69891 (December 1, 2004). The Department received notices of intent to participate from a domestic interested party, E.I. DuPont de Nemours & Company (“DuPont”), within the deadline specified in section 351.218(d)(1)(i) of the Department's regulations. DuPont claimed interested party status under section 771(9)(C) of the Act as a U.S. producer of a domestic like product. We received a complete substantive response from the domestic interested party within the 30-day deadline specified in 19 CFR 351.218(d)(3)(i). However, we did not receive responses from any respondent interested parties. As a result, pursuant to section 751(c)(3)(B) of the Act and 19 CFR 351.218(e)(1)(ii)(C)(2), the Department conducted expedited sunset reviews of these orders.

On April 7, 2005, the Department extended the time limit for final results of these sunset reviews to not later than June 29, 2005. See Carbon Steel Butt-Weld Pipe Fittings From Brazil, Japan, the People's Republic of China, Taiwan, and Thailand, and Granular Polytetrafluoroethylene Resin From Italy and Japan; Extension of Time Limit for the Final Results of Sunset Reviews of Antidumping Duty Orders, 70 FR 17647 (April 7, 2005).

Scope of the Orders

Italy

The merchandise covered by this order is PTFE Resin, filled or unfilled, from Italy. The antidumping duty order also covers PTFE Resin wet raw polymer exported from Italy to the United States. See Granular Polytetrafluoroethylene Resin From Italy; Final Determination of Circumvention of Antidumping Duty Order, 58 FR 26100 (April 30, 1993). This order excludes PTFE dispersions in water and fine powders. The subject merchandise is classified under subheading 3904.61.00 of the Harmonized Tariff Schedule of the United States (“HTS”).

Japan

The merchandise covered by this order is PTFE Resin, filled or unfilled, from Japan. PTFE Resin dispersions in water and PTFE Resin fine powders are excluded from the order. The merchandise covered by this antidumping duty order is currently classifiable under subheading 3904.61.00 of the HTS.

Analysis of Comments Received

All issues raised in these cases are addressed in the “Issues and Decision Memorandum” from Barbara E. Tillman, Acting Deputy Assistant Secretary for Import Administration, to Joseph A. Spetrini, Acting Assistant Secretary for Import Administration, dated June 29, 2005 (“Decision Memorandum”), which is hereby adopted by this notice. The issues discussed in the Decision Memorandum include the likelihood of continuation or recurrence of dumping and the magnitude of the margin likely to prevail if the orders were revoked. Parties can find a complete discussion of all issues raised in these sunset reviews and the corresponding recommendations in this public memorandum, which is on file in room B-099 of the main Department building.

In addition, a complete version of the Decision Memorandum can be accessed directly on the Web at http://ia.ita.doc.gov, under the heading “July 2005”. The paper copy and electronic version of the Decision Memorandum are identical in content.

Final Results of Reviews

We determine that revocation of the antidumping duty orders on PTFE Resin from Italy and Japan would likely lead to continuation or recurrence of dumping at the following percentage weighted-average margins:

Manufacturers/Exporters/Producers | Weighted-Average Margin (Percent)
Italy
Montefluos S.p.A./Ausimont U.S.A | 46.46¹
All Others | 46.46
Japan
Daikin Industries, Inc. | 103.00
Asahi Fluoropolymers, Inc. | 51.45
All Others | 91.74
¹ Solvay Solexis S.p.A. and Solvay Solexis, Inc., are the successors-in-interest to Ausimont S.p.A. and Ausimont U.S.A., Inc.

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Act.

Dated: June 29, 2005.
Joseph A. Spetrini,
Acting Assistant Secretary for Import Administration.

[FR Doc. E5-3550 Filed 7-5-05; 8:45 am]

BILLING CODE 3510-DS-S